DEPARTMENT OF TRANSPORTATION

Federal Aviation Administration

Notice of Intent To Rule on Application To Impose and Use the Revenue From a Passenger Facility Charge (PFC) at Monterey Peninsula Airport, Monterey, CA

AGENCY: Federal Aviation Administration (FAA), DOT.

ACTION: Notice of intent to rule on application.

SUMMARY: The FAA proposes to rule and invites public comment on the application to impose and use the revenue from a PFC at Monterey Peninsula Airport under the provisions of the Aviation Safety and Capacity Expansion Act of 1990 (Title IX of the Omnibus Budget Reconciliation Act of 1990) (Pub. L. 101-508) and part 158 of the Federal Aviation Regulations (14 CFR part 158).

DATES: Comments must be received on or before October 30, 2000.

ADDRESSES: Comments on this application may be mailed or delivered in triplicate to the FAA at the following address:

Federal Aviation Administration, Airports Division, 15000 Aviation Blvd., Lawndale, CA 90261; or

San Francisco Airports District Office, 831 Mitten Road, Room 210, Burlingame, CA 94010-1303.

In addition, one copy of any comments submitted to the FAA must be mailed or delivered to Ms. Susan Kovalenko, Manager, Support Services, of Monterey Peninsula Airport District at the following address: 200 Fred Kane Drive, Suite 200, Monterey, CA 93940. Air carriers and foreign air carriers may submit copies of written comments previously provided to the Monterey Peninsula Airport District under section 158.23 of part 158.

FOR FURTHER INFORMATION CONTACT: Marlys Vandervelde, Airports Program Analyst, San Francisco Airports District Office, 831 Mitten Road, Room 210, Burlingame, CA 94010-1303; telephone: (650) 876-2806. The application may be reviewed in person at this same location.

SUPPLEMENTARY INFORMATION: The FAA proposes to rule and invites public comment on the application to impose and use the revenue from a PFC at Monterey Peninsula Airport under the provisions of the Aviation Safety and Capacity Expansion Act of 1990 (Title IX of the Omnibus Budget Reconciliation Act of 1990) (Pub. L. 101-508) and part 158 of the Federal Aviation Regulations (14 CFR part 158).

On September 14, 2000, the FAA determined that the application to impose and use the revenue from a PFC submitted by the Monterey Peninsula Airport District was substantially complete within the requirements of § 158.25 of part 158. The FAA will approve or disapprove the application, in whole or in part, no later than December 14, 2000.

The following is a brief overview of the application No. 00-06-C-00-MRY.

Level of proposed PFC: $3.00.

Proposed charge effective date: March 1, 2001.

Proposed charge expiration date: October 1, 2001.

Total estimated PFC revenue: $362,895.

Brief description of the proposed projects: Rehabilitate Terminal Storm Drain, Expand Safety Building, Reconstruct SE Hangar Pavement, Y2K Assessment/Upgrade Security Access Control, South Ramp Security Fence, Taxiway D Reconstruction, SE Water Main Extension, Upgrade Airfield Lighting System, South Ramp Storm Drain Extension, Environmental Study for 10R/28L Service Road, Environmental Study for Airport Road Extension, Phases 2 and 3, North Side Perimeter Fence Replacement, Upper Mezzanine Elevator, Fire Apparatus Pump Upgrade and Vegetation/Wildlife Management Plan.

Class or classes of air carriers which the public agency has requested not be required to collect PFCs: Unscheduled/intermittent part 135 Air Taxi/commercial operators.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the Monterey Peninsula Airport District.

Issued in Hawthorne, California, on September 14, 2000.
Herman C. Bliss,
Manager, Airports Division, Western-Pacific Region.

[FR Doc. 00-24936 Filed 9-27-00; 8:45 am]

BILLING CODE 4910-13-M